DEPARTMENT OF COMMERCE

National Oceanic and Atmospheric Administration

RIN 0648-XA97

Marine Mammals; File Nos. 782-1889, 358-1888, 881-1893, 881-1890, 434-1892, 1049-1886, 1034-1887, 715-1884, 715-1885, 1118-1881, and 1119-1882

AGENCY: National Marine Fisheries Service (NMFS), National Oceanic and Atmospheric Administration (NOAA), Commerce.

ACTION: Notice; issuance of permits.

SUMMARY: Notice is hereby given that permits to conduct research on Steller sea lions (Eumetopias jubatus) have been issued to the following individuals and institutions: The National Marine Mammal Laboratory (NMML), NMFS, Seattle, WA (File No. 782-1889); Alaska Department of Fish and Game (ADF&G), Division of Wildlife Conservation, Juneau, AK (File No. 358-1888); The Alaska SeaLife Center (ASLC), Seward, AK (File No. 881-1890); the Oregon Department of Fish and Wildlife (ODFW), Corvallis, OR (File No. 434-1892); Kate Wynne, University of Alaska Fairbanks, Kodiak, AK (File No. 1049-1886); Dr. Markus Horning, Oregon State University, Hatfield Marine Science Center, Newport, OR (File No. 1034-1887); and the North Pacific Universities Marine Mammal Research Consortium (NPUMMRC), University of British Columbia, Vancouver, B.C. (File No. 715-1885).

Notice is hereby given that permits to conduct research on northern fur seals (Callorhinus ursinus) have been issued to the following individuals and institutions: the ASLC, Seward, AK (File No. 881-1893); the NPUMMRC, University of British Columbia, Vancouver, B.C. (File No. 715-1884); the Aleut Community of St. Paul Island, Tribal Government, Ecosystem Conservation Office, St. Paul Island, AK (File No. 1118-1881); and the Aleut Community of St. George Island, St. George Traditional Council, St. George Island, AK (File No. 1119-1882).

ADDRESSES: The permits and related documents are available for review upon written request or by appointment in the following office(s):

All Files: Permits, Conservation and Education Division, Office of Protected Resources, NMFS, 1315 East-West Highway, Room 13705, Silver Spring, MD 20910; phone (301)713-2289; fax (301)427-2521; http://www.nmfs.noaa.gov/pr/permits/review.htm;

File Nos. 782-1889 and 434-1892: Northwest Region, NMFS, 7600 Sand Point Way NE, BIN C15700, Bldg. 1, Seattle, WA 98115-0700; phone (206)526-6150; fax (206)526-6426;

All Files except 434-1892: Alaska Region, NMFS, P.O. Box 21668, Juneau, AK 99802-1668; phone (907)586-7221; fax (907)586-7249; and

File Nos 782-1889 and 434-1892: Southwest Region, NMFS, 501 West Ocean Blvd., Suite 4200, Long Beach, CA 90802-4213; phone (562)980-4001; fax (562)980-4018.

FOR FURTHER INFORMATION CONTACT: Tammy Adams, Amy Sloan, Kate Swails, or Jaclyn Daly, (301)713-2289.

SUPPLEMENTARY INFORMATION: On February 15, 2007, notice was published in the Federal Register (72 FR 7420) that requests for scientific research permits to take the species identified above had been submitted by the above-named individuals and institutions. The requested permits have been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.), as applicable.

All Files: All permits are valid through August 1, 2009 and contain requirements for coordination and monitoring of research as well as mitigation measures deemed appropriate by NMFS. These permits can not be amended or extended. No permits authorize intentional capture of adult female Steller sea lions, or use of remotely delivered drugs for capture of Steller sea lions.

File No. 782-1889: The permit issued to NMML authorizes activities to measure Steller sea lion population status, vital rates, foraging behavior, and condition in North Pacific Ocean areas including California, Washington, Oregon, and Alaska. The permit includes incidental harassment of harbor seals (Phoca vitulina richardsi), northern fur seals, and California sea lions (Zalophus californianus).

File No. 358-1888: The permit issued to ADF&G authorizes activities to investigate the various hypotheses for the decline or lack of recovery of Steller sea lions in Alaska. The permit includes incidental harassment of harbor seals, northern fur seals, and California sea lions.

File No. 881-1893: The permit issued to ASLC authorizes activities to characterize the movements, foraging behavior and habitat-associations of northern fur seal pups during their first winter at sea in Alaska.

File No. 881-1890: The permit issued to ASLC authorizes activities to conduct population monitoring and studies on health, nutrition, and foraging behavior of free ranging Steller sea lions in the Gulf of Alaska and the Aleutian Islands, and on temporarily captive Steller sea lions at the ASLC.

File No. 434-1892: The permit issued to ODFW authorizes activities to assess status and monitor trend in Steller sea lion abundance, ecology, and vital rates in the southern extent of the Steller sea lion eastern DPS throughout California, Oregon, and Washington. The permit also authorizes incidental harassment of harbor seals and California sea lions.

File No. 1049-1886: The permit issued to Kate Wynne authorizes activities to continue studies on the abundance, distribution, and diet of the western Distinct Population Segment (DPS) of Steller sea lions in the western and central Gulf of Alaska.

File No. 1034-1887: The permit issued to Dr. Horning authorizes activities to study condition and health status of juvenile Steller sea lions in the western DPS using remote imaging systems for 3-D photogrammetry at locations in Alaska and Oregon to census animals and monitor body mass, condition, and health trends. The permit also authorizes incidental harassment of California sea lions, harbor seals, and northern elephant seals (Mirounga angustirostris).

File No. 715-1884: The permit issued to NPUMMRC authorizes activities to continue to study the distribution, life history, physiology, and foraging and behavioral ecology of northern fur seals on the Pribilof Islands and Bogoslof Island in Alaska.

File No. 715-1885: The permit issued to NPUMMRC authorizes activities to continue a long-term research program to test various hypotheses for the decline of Steller sea lions in Alaska, including a study to assess pain and distress associated with hot-branding of Steller sea lions. The permit also authorizes incidental harassment of Northern fur seals, California sea lions, harbor seals, Northern elephant seals, and Killer whales (Orcinus orca).

File No. 1118-1881: The permit issued to the Aleut Community of St. Paul Island authorizes activities to fulfill their Biosampling, Disentanglement, and Island Sentinel program responsibilities as established under the co-management agreement between NMFS and the Aleut Community. The permit also authorize incidental harassment of Steller sea lions and harbor seals.

File No. 1119-1882: The permit issued to the Aleut Community of St. George Island authorizes activities to fulfill their Biosampling, Disentanglement, and Island Sentinel program responsibilities as established under the co-management agreement between NMFS and the Aleut Community. The permit also authorizes incidental harassment of Steller sea lions and harbor seals.

In compliance with the National Environmental Policy Act of 1969 (42 U.S.C. 4321 et seq.), a Programmatic Environmental Impact Statement (PEIS) for Steller Sea Lion and Northern Fur Seal Research was prepared to evaluate the potential environmental impacts of awarding grants and issuing permits to facilitate research on these species. Information about the PEIS is available at http://www.nmfs.noaa.gov/pr/permits/eis/steller.htm.

Issuance of the permits for research on Steller sea lions, as required by the ESA, was based on a finding that such permits: (1) were applied for in good faith; (2) will not operate to the disadvantage of such endangered species; and (3) are consistent with the purposes and policies set forth in section 2 of the ESA.

Dated: June 21, 2007.
Carrie W. Hubard,
Acting Chief, Permits, Conservation and Education Division, Office of Protected Resources, National Marine Fisheries Service.

[FR Doc. E7-12558 Filed 6-27-07; 8:45 am]

BILLING CODE 3510-22-S